COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List products and services to be furnished by nonprofit agencies employing persons who are blind or have other severe disabilities.

EFFECTIVE DATE: June 27, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: On April 2, and April 9, 2004, the Committee for Purchase From People Who Are Blind or Severely Disabled published notice (69 FR 17391, and 18868/18869) of proposed additions to the Procurement List.

After consideration of the material presented to it concerning capability of qualified nonprofit agencies to provide the products and services and impact of the additions on the current or most recent contractors, the Committee has determined that the products and services listed below are suitable for procurement by the Federal government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the government.

2. The action will result in authorizing small entities to furnish the products and services to the government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Air Force Physical Training Uniform, Jacket—50% of the Defense Supply Center Philadelphia's requirement.

8415-01-518-4594;

8415-01-518-4599;

8415-01-518-4600;

8415-01-518-4601;

8415-01-518-4603;

8415-01-518-4604;

8415-01-518-4605;

8415-01-518-4607;

8415-01-518-4608;

8415-01-518-4609;

8415-01-518-4610;

8415-01-518-4611;

8415-01-518-4612;

8415-01-518-4613;

8415-01-518-4615;

8415-01-518-4616;

8415-01-518-4617;

8415-01-518-4618;

8415-01-518-4619;

8415-01-518-4620;

8415-01-518-4621;

8415-01-518-4622;

8415-01-518-4623;

8415-01-518-4647.

NPA: Blind Industries & Services of Maryland, Baltimore, Maryland at its facility in Salisbury, Maryland

NPA: Winston-Salem Industries for the Blind, Winston-Salem, North Carolina

Contract Activity: Defense Supply Center Philadelphia, Philadelphia, Pennsylvania

Product/NSN: Air Force Physical Training Uniform, Pant—50% of the Defense Supply Center Philadelphia's requirement.

8415-01-518-4561;

8415-01-518-4562;

8415-01-518-4563;

8415-01-518-4564;

8415-01-518-4565;

8415-01-518-4566;

8415-01-518-4567;

8415-01-518-4568;

8415-01-518-4570;

8415-01-518-4571;

8415-01-518-4572;

8415-01-518-4573;

8415-01-518-4574;

8415-01-518-4575;

8415-01-518-4576;

8415-01-518-4577;

8415-01-518-4578;

8415-01-518-4579;

8415-01-518-4580;

8415-01-518-4581;

8415-01-518-4582;

8415-01-518-4583;

8415-01-518-4584;

8415-01-518-4585.

NPA: Association for the Blind & Visually Impaired & Goodwill Industries of Greater Rochester, Rochester, New York

NPA: El Paso Lighthouse for the Blind, El Paso, Texas

NPA: L.C. Industries For The Blind, Inc., Durham, North Carolina at its facility in Louisville, Kentucky

NPA: Lions Services, Inc., Charlotte, North Carolina

NPA: New York City Industries for the Blind, Inc., Brooklyn, New York

Contract Activity: Defense Supply Center Philadelphia, Philadelphia, Pennsylvania

Product/NSN: Gloves, Disposable

8415-01-392-8448

NPA: Bestwork Industries for the Blind, Inc., Runnemede, New Jersey

Contract Activity: GSA, Southwest Supply Center, Fort Worth, Texas

Product/NSN: Three Wheel Tape Dispenser

7520-00-634-6724

Product/NSN: Two Wheel Tape Dispenser

7520-00-285-1772

NPA: The Arc of Bergen and Passaic Counties, Inc., Hackensack, New Jersey

Contract Activity: Office Supplies & Paper Products Acquisition Center, New York, New York

Services

Service Type/Location: Custodial Services

Food & Drug Administration, CDER Lab/Office Building, White Oak, Maryland

NPA: Alliance, Inc., Baltimore, Maryland

Contract Activity: GSA/PBS National Capitol Region, Washington, DC

This action does not affect current contracts awarded prior to the effective date of this addition or options that may be exercised under those contracts.

Patrick Rowe,
Deputy Executive Director.

[FR Doc. 04-12163 Filed 5-27-04; 8:45 am]

BILLING CODE 6353-01-P